DEPARTMENT OF JUSTICE

Notice of Lodging of Proposed Amendment to Consent Decree Under the Clean Water Act

Notice is hereby given that on June 23, 2009, a proposed Consent Decree, pertaining to United States and State of Minnesota v. City of Duluth, Minnesota and the Western Lake Superior Sanitary District, Civ. No. 09-cv-1590, was lodged with the United States District Court for the District of Minnesota.

In this action, the United States and the State seek civil penalties and injunctive relief for alleged violations of the Federal Water Pollution Control Act (also known as the Clean Water Act), 33 U.S.C. 1251, et seq., applicable provisions of Minn. Stat. section 115 and Minnesota Rules, and certain terms and conditions of a National Pollution Discharge Elimination System/State Disposal System permit that MPCA issued jointly to Duluth and WLSSD, in connection with alleged wastewater discharges, into waters of the United States and the State, from a sanitary sewer system which is jointly owned and operated by Duluth and WLSSD.

The proposed Consent Decree would require the Defendants, by 2016, to complete a variety of programs and capital improvements, which are expected to cost a total of approximately $130 million, and are intended to eliminate sanitary sewer overflows. The Decree also would require WLSSD and the City each to pay the United States $106,000 and the State $94,000 in civil penalties (total civil penalty is $400,000).

The Department of Justice will receive, for a period of thirty (30) days from the date of this publication, comments relating to the Consent Decree. Comments should be addressed to the Assistant Attorney General, Environment and Natural Resources Division, and either e-mailed to pubcomment-ees.enrd@usdoj.gov or mailed to P.O. Box 7611, U.S. Department of Justice, Washington, DC 20044-7611, and should refer to United States and State of Minnesota v. City of Duluth, Minnesota and the Western Lake Superior Sanitary Commission, D.J. Ref. 90-5-1-1-08428. The proposed Consent Decree may be examined at the Office of the United States Attorney for the District of Minnesota, 600 U. S. Courthouse, 300 South Fourth Street, Minneapolis, Minnesota 55415 (contact Asst. U.S. Attorney Fred Siekert (612-664-5697)), and at U.S. EPA Region 5, 7th Floor Records Center, 77 West Jackson Blvd., Chicago, Illinois 60604 (contact Assoc. Regional Counsel Charles Mikalian (312-886-2242)). During the public comment period, the Consent Decree may also be examined on the following Department of Justice Web site: http://www.usdoj.gov/enrd/Consent_Decrees.html. A copy of the Consent Decree may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check in the amount of $20.50 (25 cents per page reproduction cost), for the consent decree alone, or in the amount of $158.00 (for the consent decree and all appendices) payable to the U.S. Treasury or, if by e-mail or fax, forward a check in that amount to the Consent Decree Library at the stated address.

Maureen Katz,
Assistant Chief, Environmental Enforcement Section, Environment and Natural Resources Division.

[FR Doc. E9-15306 Filed 6-26-09; 8:45 am]

BILLING CODE 4410-15-P